DEPARTMENT OF AGRICULTURE

Grain Inspection, Packers and Stockyards Administration

Opportunity for Designation in the Aberdeen, SD; Decatur, IL; Hastings, NE; Fulton, IL; the State of Missouri, and the State of South Carolina Areas; Request for Comments on the Official Agencies Servicing These Areas

AGENCY: Grain Inspection, Packers and Stockyards Administration, USDA.

ACTION: Notice.

SUMMARY: The designations of the official agencies listed below will end on September 30, 2011. We are asking persons or governmental agencies interested in providing official services in the areas presently served by these agencies to submit an application for designation. In addition, we are asking for comments on the quality of services provided by the following designated agencies: Aberdeen Grain Inspection, Inc. (Aberdeen); Decatur Grain Inspection, Inc. (Decatur); Hastings Grain Inspection, Inc. (Hastings); John R. McCrea Agency, Inc. (McCrea); Missouri Department of Agriculture (Missouri); and South Carolina Department of Agriculture (South Carolina).

DATES: Applications and comments must be received by April 21, 2011.

ADDRESSES: Submit applications and comments concerning this notice using any of the following methods:

• Applying for Designation on the Internet: Use FGISonline (https://fgis.gipsa.usda.gov/default_home_FGIS.aspx) and then click on the Delegations/Designations and Export Registrations (DDR) link. You will need to obtain an FGISonline customer number and USDA eAuthentication username and password prior to applying.

• Submit Comments Using the Internet: Go to Regulations.gov (http://www.regulations.gov). Instructions for submitting and reading comments are detailed on the site.

• Hand Delivery/Courier Address: Karen W. Guagliardo, Review Branch Chief, Compliance Division, GIPSA, USDA, Room 1647-S, 1400 Independence Avenue, SW., Washington, DC 20250.

• Mail: Karen W. Guagliardo, Review Branch Chief, Compliance Division, GIPSA, USDA, STOP 3604, 1400 Independence Avenue, SW., Washington, DC 20250-3604.

• Fax: Karen W. Guagliardo, 202-690-2755.

• E-mail: Karen.W.Guagliardo@usda.gov.

READ APPLICATIONS AND COMMENTS: All applications and comments will be available for public inspection at the office above during regular business hours (7 CFR 1.27(c)).

FOR FURTHER INFORMATION CONTACT: Karen W. Guagliardo, 202-720-8262 or Karen.W.Guagliardo@usda.gov.

SUPPLEMENTARY INFORMATION: Section 7(f)(1) of the United States Grain Standards Act (USGSA) (7 U.S.C. 71-87k) authorizes GIPSA's Administrator to designate a qualified applicant to provide official services in a specified area after determining that the applicant is better able than any other applicant to provide such official services. Under section 7(g)(1) of the USGSA, designations of official agencies are effective for 3 years unless terminated by the Secretary, but may be renewed according to the criteria and procedures prescribed in section 7(f) of the Act.

Areas Open for Designation:

Aberdeen

Pursuant to Section 7(f)(2) of the Act, the following geographic areas in the States of North Dakota and South Dakota are assigned to this official agency:

• Bounded on the North by U.S. Route 12 east to State Route 22; State Route 22 north to the Burlington-Northern (BN) line; the Burlington-Northern (BN) line east to State Route 21; State Route 21 east to State Route 49; State Route 49 south to the North Dakota-South Dakota State line; the North Dakota-South Dakota State line east to U.S. Route 83; U.S. Route 83 north to State Route 13; State Route 13 east and north to McIntosh County; the northern McIntosh County line east to Dickey County; the northern Dickey County line east to U.S. Route 281; U.S. Route 281 south to the North Dakota-South Dakota State line; the North Dakota-South Dakota State line east;

• Bounded on the East by the eastern South Dakota State line (the Big Sioux River) to A54B;

• Bounded on the South by A54B west to State Route 11; State Route 11 north to State Route 44 (U.S. 18); State Route 44 west to the Missouri River; the Missouri River south-southeast to the South Dakota State line; the southern South Dakota State line west; and

• Bounded on the West by the western South Dakota State line north; the western North Dakota State line north to U.S. Route 12.

Decatur

Pursuant to Section 7(f)(2) of the Act, the following geographic areas in the State of Illinois are assigned to this official agency:

• Bounded on the North by the northern and eastern DeWitt County lines; the eastern Macon County line south to Interstate 72; Interstate 72 northeast to the eastern Piatt County line;

• Bounded on the East by the eastern Piatt, Moultrie, and Shelby County lines;

• Bounded on the South by the southern Shelby County line; a straight line running along the southern Montgomery County line west to State Route 16 to a point approximately one mile northeast of Irving; and

• Bounded on the West by a straight line from this point northeast to Stonington on State Route 48; a straight line from Stonington northwest to Elkhart on Interstate 55; a straight line from Elkhart northeast to the west side of Beason on State Route 10; State Route 10 east to DeWitt County; the western DeWitt County line.

Decatur's assigned geographic area does not include the following grain elevators inside Decatur's area, which have been and will continue to be serviced by the following official agency: Champaign-Danville Grain Inspection Departments, Inc.: Moultrie Grain Association, Cadwell, Moultrie County; Tabor Grain Company (three elevators), Farmer City, DeWitt County; and Topflight Grain Company, Monticello, Piatt County.

Hastings

Pursuant to Section 7(f)(2) of the Act, the following geographic areas in the State of Nebraska are assigned to this official agency:

• Bounded on the North by the northern Nebraska State line from the western Sioux County line east to the eastern Knox County line;

• Bounded on the East by the eastern and southern Knox County lines; the eastern Antelope County line; the northern Madison County line east to U.S. Route 81; U.S. Route 81 south to the southern Madison County line; the southern Madison County line; the eastern Boone, Nance, and Merrick County lines; the Platte River southwest; the eastern Hamilton County line; the northern and eastern Fillmore County lines; the southern Fillmore County line west to U.S. Route 81; U.S. Route 81 south to State Highway 8; State Highway 8 west to the County Road 1 mile west of U.S. Route 81; the County Road south to the southern Nebraska State line;

• Bounded on the South by the southern Nebraska State line, from the County Road 1 mile west of U.S. Route 81, west to the western Dundy County line; and

• Bounded on the West by the western Dundy, Chase, Perkins, and Keith County lines; the southern and western Garden County lines; the southern Morrill County line west to U.S. Route 385; U.S. Route 385 north to the southern Box Butte County line; the southern and western Sioux County lines north to the northern Nebraska State line.

The following grain elevators, located outside of the above contiguous geographic area, are part of this geographic area assignment: Farmers Coop, and Big Springs Elevator, both in Big Springs, Deuel County (located inside Kansas Grain Inspection Service, Inc.'s area); and Huskers Cooperative Grain Company, Columbus, Platte County (located inside Fremont Grain Inspection Department, Inc.'s, area).

McCrea

Pursuant to Section 7(f)(2) of the Act, the following geographic areas in the States of Illinois and Iowa are assigned to this official agency:

• Carroll and Whiteside Counties, Illinois and

• Clinton and Jackson Counties, Iowa.

Missouri

Pursuant to Section 7(f)(2) of the Act, the entire State of Missouri is assigned to this official agency.

South Carolina

Pursuant to Section 7(f)(2) of the Act, the entire State of South Carolina, except those export port locations within the State, which are serviced by GIPSA, is assigned to this official agency.

Opportunity for Designation

Interested persons or governmental agencies may apply for designation to provide official services in the geographic areas specified above under the provisions of section 7(f) of the USGSA and 7 CFR 800.196(d). Designation in the specified geographic areas is for the period beginning October 1, 2011, and ending September 30, 2014. To apply for designation or for more information, contact Karen W. Guagliardo at the address listed above or visit GIPSA's Web site at http://www.gipsa.usda.gov.

Request for Comments

We are publishing this notice to provide interested persons the opportunity to comment on the quality of services provided by the Aberdeen, Decatur, Hastings, McCrea, Missouri, and South Carolina official agencies. In the designation process, we are particularly interested in receiving comments citing reasons and pertinent data supporting or objecting to the designation of the applicants. Submit all comments to Karen W. Guagliardo at the above address or at http://www.regulations.gov.

We consider applications, comments, and other available information when determining which applicants will be designated.

Authority: 7 U.S.C. 71-87k.

J. Dudley Butler,
Administrator, Grain Inspection, Packers and Stockyards Administration.

[FR Doc. 2011-6589 Filed 3-21-11; 8:45 am]

BILLING CODE 3410-KD-P